DEPARTMENT OF HOMELAND SECURITY

Transportation Security Administration

Extension of Agency Information Collection Activity Under OMB Review: Aviation Security Customer Satisfaction Performance Measurement Passenger Survey

AGENCY: Transportation Security Administration, DHS.

ACTION: 30-day notice.

SUMMARY: This notice announces that the Transportation Security Administration (TSA) has forwarded the Information Collection Request (ICR), Office of Management and Budget (OMB) control number 1652-0013, abstracted below to OMB for review and approval of an extension of the currently approved collection under the Paperwork Reduction Act (PRA). The ICR describes the nature of the information collection and its expected burden. TSA published a Federal Register notice, with a 60-day comment period soliciting comments, of the following collection of information on June 7, 2016, 81 FR 36555. The collection involves surveying travelers to measure customer satisfaction of aviation security in an effort to more efficiently manage its security screening performance at airports.

DATES: Send your comments by September 26, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aviation Security Customer Satisfaction Performance Measurement Passenger Survey.

Type of Request: Extension of a currently approved collection.

OMB Control Number: 1652-0013.

Forms(s): Survey.

Affected Public: Travelling public.

Abstract: TSA, with OMB's approval, has conducted surveys of passengers and now seeks approval to continue this effort. TSA plans to conduct passenger surveys at airports nationwide. The surveys will be administered using either an intercept methodology ¹ or a systematic sampling methodology.² Before each survey collection at an airport, TSA personnel decide the method by which passengers will be asked to complete and return the survey. Under both methodologies, TSA personnel who are not in uniform hand deliver business card survey forms to passengers immediately following the passenger's experience with TSA's checkpoint security functions. Passengers are invited, though not required, to complete and return the survey using either a web-based portal on their own devices, responding to TSA personnel capturing verbal responses to the survey in real time using the same web-based portal on portable devices, or by responding in writing to the survey questions on the customer satisfaction card and depositing the card in a drop-box at the airport or using U.S. mail.

¹ The intercept methodology utilizes surveys that are conducted in-person, generally in a public place or business.

² Systematic sampling methodology is a method of choosing a random sample from among a larger population. The process of systematic sampling typically involves first selecting a fixed starting point in the larger population and then obtaining subsequent observations by using a constant interval between samples taken.

TSA uses the intercept methodology or the systematic sampling methodology to randomly select passengers to complete the survey in an effort to gain survey data representative of all passenger demographics, including passengers who—

• Travel on weekdays or weekends;

• Travel in the morning, mid-day, or evening;

• Pass through each of the different security screening locations in the airport;

• Are subject to more intensive screening of their baggage or person; and

• Experience different volume conditions and wait times as they proceed through the security checkpoints.

Each survey includes 10 to 15 questions pulled from a list of 82 questions previously approved by OMB. Each question promotes a quality response so that TSA can identify areas in need of improvement. All questions concern aspects of the passenger's security screening experience, such as:

• Confidence in Personnel.

• Confidence in Screening Equipment.

• Confidence in Security Procedures.

• Convenience of Divesting.

• Experience at Checkpoint.

• Satisfaction with Wait Time.

• Separation from Belongings.

• Separation from Others in Party.

• Stress Level.

TSA personnel use random procedures to select passengers to voluntarily participate in the survey until TSA obtains the desired sample size. The samples may be selected with one randomly selected time and location or span multiple times and locations. All responses are voluntary and there is no burden on passengers who choose not to respond.

TSA intends to collect this information in order to continue to assess customer satisfaction in an effort to more efficiently manage its security screening performance at airports. TSA can use this detailed, airport-specific data to enhance customer experiences and its performance at specific airports.

Number of Respondents: 9,600.

Estimated Annual Burden Hours: An estimated 800 hours annually.

Dated: August 19, 2016.
Christina A. Walsh,
TSA Paperwork Reduction Act Officer, Office of Information Technology.

[FR Doc. 2016-20398 Filed 8-24-16; 8:45 am]

BILLING CODE 9110-05-P